DEPARTMENT OF HEALTH AND HUMAN SERVICES

Administration on Aging

Agency Information Collection Activities; Submission for OMB Review; Comment Request; Extension of Existing Information Collection; Certification of Maintenance of Effort Form Title III of the Older Americans Act, Grants for State and Community Program on Aging

AGENCY: Administration on Aging, HHS.

ACTION: Notice.

SUMMARY: The Administration on Aging (AoA) is announcing that the proposed collection of information listed below has been submitted to the Office of Management and Budget (OMB) for review and clearance under the Paperwork Reduction Act of 1995.

DATES: Submit written comments on the collection of information by August 15, 2005.

ADDRESSES: Submit written comments on the collection of information by fax 202.395.6974 or by mail to the Office of Information and Regulatory Affairs, OMB, New Executive Office Bldg., 725 17th St., NW., rm. 10235, Washington, DC 20503, Attn: Brenda Aguilar, Desk Officer for AoA.

FOR FURTHER INFORMATION CONTACT: Margaret Tolson, telephone: (202) 357-3440; e-mail: margaret.tolson@aoa.gov.

SUPPLEMENTARY INFORMATION: In compliance with 44 U.S.C. 3507, AoA has submitted the following proposed collection of information to OMB for review and clearance. With respect to the following collection of information, AoA invites comments on: (1) Whether the proposed collection of information is necessary for the proper performance of AoA's functions, including whether the information will have practical utility; (2) the accuracy of AoA's estimate of the burden of the proposed collection of information, including the validity of the methodology and assumptions used; (3) ways to enhance the quality, utility, and clarity of the information to be collected; and (4) ways to minimize the burden of the collection of information on respondents, including through the use of automated collection techniques when appropriate, and other forms of information technology.

Title III of the Older Americans Act, section 309(c), requires that a state's allotment be reduced by the percentage by which its state expenditures for a given fiscal year are less than its average annual expenditures from state sources for the period of three consecutive fiscal years preceding such fiscal year. Since information collected on the SF-269 report combines the funds from state and local sources, the Administration on Aging is unable to identify funds solely from State sources. The information contained on the Certification of Maintenance of Effort form will be used by the Administration on Aging to verify the amount of state expenditures and make comparisons with the average annual expenditures for the period of three consecutive fiscal years preceding the given year to assure that a state is in compliance with 45 CFR 1321.49.

AoA estimates the burden of this collection of information as follows: Approximately one-half hour per respondent with 52 State Agencies on Aging responding annually, thus producing a burden of 26 hours per year.

In the Federal Register of March 29, 2005 (Vol. 70, No. 59, Page 15862), the agency requested comments on the proposed collection of information.

No comments on the content of the collection were received.

Dated: July 12, 2005.
Josefina G. Carbonell,
Assistant Secretary for Aging.

[FR Doc. 05-13938 Filed 7-14-05; 8:45 am]

BILLING CODE 4154-01-P